DEPARTMENT OF LABOR

Employment and Training Administration

Notice of Publication of Training and Employment Guidance Letter No. 11-07, Change 2

AGENCY: Employment and Training Administration, Labor.

ACTION: Notice of publication.

SUMMARY: The Department of Labor's (DOL) Employment and Training Administration (ETA) is publishing Training and Employment Guidance Letter (TEGL) No. 11-07, Change 2, which rescinds TEGL No. 11-07, Change 1. The 2008 Final Rule implementing the H-2A Temporary Agricultural Worker Program, 73 FR 77109, Dec. 18, 2008 mirrors the clarification guidance of TEGL 11-07, Change 1, making the TEGL unnecessary and redundant.

DATES: This Notice of Publication is effective September 21, 2009.

FOR FURTHER INFORMATION CONTACT: For information on the H-2A labor certification process governed by this publication, contact William L. Carlson, Administrator, Office of Foreign Labor Certification, Employment and Training Administration, U.S. Department of Labor, 200 Constitution Avenue, NW., Room C-4312, Washington, DC 20210. Telephone: (202) 693-3010 (this is not a toll-free number). Individuals with hearing or speech impairments may access the telephone via TTY by calling the toll-free Federal Information Relay Service at 1-800-877-8339.

SUPPLEMENTARY INFORMATION:

Background

On November 14, 2007, the Department published TEGL No. 11-07, Change 1 that provided additional guidance to the State Workforce Agencies (SWAs) and ETA National Processing Centers (NPCs) involved in the processing of H-2A labor certification applications for temporary agricultural employment of foreign workers in the United States. Specifically, the clarifications provided direction to employer application filing, recruitment and housing standards.

Need for Rescission

On December 18, 2008 the Department published in the Federal Register final regulations that re-engineered the H-2A temporary agricultural workers program. These regulations went into effect on January 17, 2009. The regulations fully address employers' obligations with respect to applications, recruitment, and housing standards making TEGL 11-07, Change 1 redundant and unnecessary. In addition, the re-engineering of the H-2A program revised the role of both the NPC and the SWAs, making portions of the TEGL inaccurate. The Department no longer requires the guidance provided in TEGL No. 11-07, Change 1 and is rescinding TEGL 11-07, Change 1.

Signed in Washington, DC this 26th day of August, 2009.
Jane Oates,
Assistant Secretary, Employment and Training Administration.

[FR Doc. E9-22508 Filed 9-18-09; 8:45 am]

BILLING CODE 4510-FP-P